NATIONAL SCIENCE FOUNDATION

Request for Clearance; Public Information Collection Requirements To Be Submitted to the Office of Management and Budget; Notice

AGENCY: National Science Foundation.

ACTION: Request for clearance: Public information collection requirements to be submitted to the Office of Management and Budget (OMB).

SUMMARY: The National Science Foundation (NSF) is announcing plans to request extension of approval for this collection. In accordance with the requirement of Section 3506(c)(2)(A) of the Paperwork Reduction Act of 1995 (Pub. L. 104-13), we are providing an opportunity for public comment on this action. After obtaining and considering public comment, NSF will prepare the submission requesting that OMB extend clearance of this collection for at least 3 years.

DATES: Written comments should be received by May 13, 2002, to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov, and Office of Information and Regulatory Affairs, Office of Management and Budget, Room 10235, New Executive Office Building, Washington, DC 20503. Attn: Lauren Wittenberg, NSF Desk Officer.

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

FOR FURTHER INFORMATION CONTACT: Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: Cross-Site Evaluation of the National Science Foundation's Directorate for Education and Human Resources' Urban Systemic Program.

OMB Approval Number: 3145-0186.

Expiration Date of Approval: July 31, 2002.

Abstract:

The National Science Foundation (NSF) requests a three-year clearance for an evaluation of the Urban Systemic Program (USP), a study that has been on-going since October 1999 first under OMB 3145-0136 and now under OMB 3145-0186. Due to a change in OMB terms of clearance for OMB 3145-0136, NSF established an independent clearance for the USP study under the terms of an emergency clearance.

USP began in 1999 when NSF made competitive awards of up to $3 million per year, for up to 5 years, to 5 urban school districts. Since then, the program has made awards to 13 additional districts in 2000, and another 9 districts in 2001. The USP represents one of NSF's major investments in improving science and mathematics education in urban school systems across the country, and having third-party evaluation is important in order for the agency to interpret the worthiness of the investment.

NSF uses the data to: (1) Determine whether to modify or extend the USP concepts and (2) share best practices and lessons learned about reform in mathematics and science education for K-12 schools.

Specifically, during the first two years of the USP Cross-Site Evaluation, the third-party, COSMOS Corporation of Bethesda, MD, has produced reports for others at NSF (e.g., the National Science Board). Though there are other sources of such documentation, the information provided by the Cross-Site team is valued because the team is not associated in any way with the program sites. Second, the Division of Educational System Reform uses the information to supplement its annual program monitoring. Third, NSF will use the information, both to assess its investment in the USP program and potentially to help to guide the design of future programs, such as the Mathematics and Science Partnerships.

During the extended period of clearance, the cross-site evaluation will conduct site visits to the first 18 districts that received USP awards and will collect student achievement data in mathematics and science from all of the districts. This data collection complements earlier efforts already undertaken by the Cross-Site team under earlier OMB clearance.

Respondents: State, local or tribal governments.

Number of Respondents: 378.

Burden on the Public: 270 hours.

Dated: March 7, 2002.
Suzanne H. Plimpton,
Reports Clearance Officer, National Science Foundation.

[FR Doc. 02-5870 Filed 3-11-02; 8:45 am]

BILLING CODE 7555-01-M